NATIONAL SCIENCE FOUNDATION

Advisory Committee for International Science and Engineering Notice of Meeting

In accordance with the Federal Advisory Committee Act (Pub. L. 92-463, as amended), the National Science Foundation (NSF) announces the following meeting:

Name and Committee Code: Advisory Committee for International Science and Engineering (#25104).

Date and Time: July 11, 2022, 10:00 a.m.-3:00 p.m. (Eastern Time).

Place: NSF, 2415 Eisenhower Avenue, Alexandria, VA 22314/Virtual.

Connect to the Virtual Meeting: To attend the AC-ISE virtual meeting, all visitors must process the meeting registration via Zoom:

Register in advance for the meeting at the Zoom attendee registration link: https://nsf.zoomgov.com/webinar/register/WN_055Jp5i2RUyXryCFid6wpw. After registering, you will receive a confirmation email with a unique link to join the meeting.

If you have any login questions, please contact Kirk Grabowski, OISE IT Specialist: kgrabows@associates.nsf.gov.

Type of Meeting: Open.

Contact Person: Christopher Street, National Science Foundation, 2415 Eisenhower Avenue, Alexandria, VA 22314. Email: cstreet@nsf.gov.

Purpose of Meeting: To provide advice, recommendations and counsel on major goals and policies pertaining to engineering programs and activities.

Agenda

Updates on OISE activities

Review of OISE Programs & Broadening Diversity of Institutions

Review of Diplomatic Activities

Meet with NSF leadership

Dated: June 14, 2022.
Crystal Robinson,
Committee Management Officer.

[FR Doc. 2022-13144 Filed 6-17-22; 8:45 am]

BILLING CODE 7555-01-P